DEPARTMENT OF TRANSPORTATION

Office of the Secretary

[Docket No. DOT-OST-2017-0096]

Senior Executive Service Performance Review Boards Membership

AGENCY: Office of the Secretary, Department of Transportation (DOT).

ACTION: Notice of Performance Review Board (PRB) Appointments.

SUMMARY: DOT published the names of the persons selected to serve on Departmental PRBs as required by law.

FOR FURTHER INFORMATION CONTACT: Lisa M. Williams, Director, Departmental Office of Human Resource Management (202) 366-4088.

SUPPLEMENTARY INFORMATION: The persons named below may be selected to serve on one or more Departmental PRBs.

Keith E. Washington,
Deputy Assistant Secretary for Administration.

Department of Transportation

Federal Highway Administration

ALICANDRI, ELIZABETH

ALONZI, ACHILLE

ARNOLD, ROBERT E.

BEZIO, BRIAN R.

BIONDI, EMILY CHRISTINE

BROWN, JANICE W.

CALLENDER, DUANE A.

CHRISTIAN, JAMES C.

COLLINS, BERNETTA L.

CRONIN, BRIAN P.

ELSTON, DEBRA S.

EVANS, MONIQUE REDWINE

EVERETT, THOMAS D.

FINFROCK, ARLAN E JR.

FLEURY, NICOLLE M.

FURST, ANTHONY T.

GATTI, JONATHAN D.

GRIFFITH, MICHAEL S.

HARTMAN, JOSEPH L.

HESS, TIMOTHY G.

HUGHES RAYMAN, CAITLIN

KALLA, HARI

KEHRLI, MARK R.

KNOPP, MARTIN C.

LEONARD, KENNETH

LUCERO, AMY C.

MAMMANO, VICENT P.

MARCHESE, APRIL LYNN

OSBORN, PETER W.

OTTO, SANDRA L.

PETTY, KENNETH II

RICHARDSON, CHRISTOPHER STEVEN

RICHTER, CHERYL ALLEN

RICO, IRENE

RIDENOUR, MELISA LEE

ROHLF, JOHN G.

SCHAFTLEIN, SHARI M.

SCHMIDT, ROBERT T.

SHEPHERD, GLORIA MORGAN

SHORES, SARAH J.

STEPHANOS, PETER J.

SUAREZ, RICHARDO

TRENTACOSTE, MICHAEL F.

TURNER, DERRELLE E.

WAIDELICH, WALTER C. JR.

WINTER, DAVID R.

WRIGHT, LESLIE JANICE

ZIMMERMAN, MARY BETH

Federal Motor Carrier Administration

COLLINS, ANNE L.

DELORENZO, JOSEPH P.

FROMM, CHARLES J.

HORAN, CHARLES A. III

HUTCHINSON, RANDI F.

JEFFERSON, DAPHNE Y.

KEANE, THOMAS P.

MILLER, ROBERT WILLIAM

MINOR, LARRY W.

QUADE, WILLIAM A. III

REED, PAMELA GRAHAM

REGAL, GERALDINE K.

RIDDLE, KENNETH H.

RUBAN, DARRELL L.

SMITH, STEVEN K.

THOMAS, CURTIS L.

VAN STEENBURG, JOHN W.

Federal Railroad Administration

ALEXY, JOHN KARL

ALLAHYAR, MARYAM

HALL, REBER H.

HERRMANN, THOMAS J.

INDERBITZIN, SARAH LYNNE

LAUBY, ROBERT C.

LESTINGI, MICHAEL W.

NISSENBAUM, PAUL

PENNINGTON, REBECCA A.

RENNERT, JAMIE P.

RIGGS, TAMELA LYNN

WARREN, PATRICK THERON

Federal Transit Administration

AHMAD, MOKHTEE

BUCHANAN, HENRIKA J.

CROUCH, MATTHEW M.

GARCIA CREWS, THERESA

GARLIAAUSKAS, LUCY

GEHRKE, LINDA M.

GOODMAN, STEPHEN C.

LITTLETON, THOMAS

MELLO, MARY E.

NIFOSI, DANA C.

PATRICK, ROBERT C.

ROGERS, LESLIE T.

SIMON, MARISOL R.

TAYLOR, YVETTE G.

TERWILLIGER, CINDY E.

TUCCILLO, ROBERT J.

VALDES, VINCENT

WELBES, MATTHEW J.

Maritime Administration

BOHNERT, ROGER V.

BRAND, LAUREN K.

BROHL, HELEN A.

CAHILL, WILLIAM H.

DAVIS, DELIA P.

DOHERTY, OWEN J.

DUNLAP, SUSAN LYNN

FISHER, ANTHONY JR.

HELIS, JAMES A.

KUMAR, SHASHI N.

MC MAHON, CHRISTOPHER J.

MOSCHKIN, LYDIA

PIXA, RAND R.

QUINN, JOHN P.

SZABAT, JOEL M.

TOKARSKI, KEVIN M.

National Highway Traffic Safety Administration

BEUSE, NATHANIEL M.

BLINCOE, LAWRENCE J.

COGGINS, COLLEEN P.

DANIELSON, JACK H.

DONALDSON, K. JOHN

GIUSEPPE, JEFFREY M.

GUNNELS, JEFFRFEY M.

GUNNELS, MARY D.

HATIPOGLU, CEM

HINES, DAVID M.

JOHNSON, TIM J.

KOLLY, JOSEPH M.

MARSHALL, JOHN W.

MCLAUGHLIN, SUSAN

MICHAEL, JEFFREY P.

POSTEN, RAYMOND R.

RIDELLA, STEPHEN A.

SHELTON, TERRY T.

SPRAGUE, MARY G.

WOOD, STEPHEN P.

Office of the Secretary

ABRAHAM, JULIE

ALBRIGHT, JACK G.

AUDET, ANNE H.

AUGUSTINE, JOHN E.

AYLWARD, ANNE D.

BALDWIN, KRISTEN K.

BEDELL, ANTHONY R.

BRITT, MICHAEL J.

BURR, GEOFFREY GRANT

CARLSON, TERENCE W.

FARLEY, AUDREY L.

FLEMING, GREGG G.

FUNK, JENNIFER S.

GEIER, PAUL M.

GENERO, LAURA

HEDBERG, BRIAN J.

HERLIHY, THOMAS W.

HOLDEN, STEPHEN H.

HOMAN, TODD M.

HORN, DONALD H.

HU, PATRICIA S.

HURDLE, LANA T.

INMAN, JAMES TODD

JACKSON, RONALD A.

JAMES, CHARLES E.

JANG, DEENA L.

JOYNER, GREGORY GILBERT

KALETA, JUDITH S.

KAN, DEREK T.

KLEPPER, MARTIN V.

KNOUSE, RUTH D.

LEFEVRE, MARIA S.

LOWDER, MICHAEL W.

MACECEVIC, LISA J.

MARTIN, HAROLD W. III

MCCANN, BARBARA A.

MCCARTNEY, ERIN P.

MCDERMOTT, SUSAN E.

MCINERNEY, MARIANNE

MCMASTER, SEAN K.B.

MEDINA, YVONNE R.

MISIAK, JODIE M.

MORRIS, WILLIS A.

MOSS, JONATHAN P.

NELSON, KEITH A.

O'BERRY, DONNA

ORNDORFF, ANDREW R.

PAIEWONSKY, LUISA M.

PETROSINOWOOLVERTON, MARI

POPKIN, STEPHEN M.

PROLL, LESLIE M.

RAY, JAMES D.

SCHMITT, ROLF R.

SLATER, GEORGE B.

SMITH, WILLIE H.

SOLOMON, GERALD L.

TIMOTHY, DARREN P.

WASHINGTON, KEITH E.

WILLIAMS, LISA M.

WOMACK, KEVIN C.

WORKIE, BLANE A.

ZIFF, LAURA M.

Pipeline and Hazardous Materials Safety Administration

CURRY, KIM Y

DAUGHERTY, LINDA

LOTT, EVERETT

MAYBERRY, ALAN K.

MCMILLAN, HOWARD W.

MEIDL, RACHEL A.

PERRIELLO, TAMI L.

SCHOONOVER, WILLIAMS S.

TSAGANOS, VASILKI B.

Saint Lawrence Seaway Development Corporation

LAVIGNE, THOMAS A.

MIDDLEBROOK, CRAIG H.

[FR Doc. 2017-16450 Filed 8-8-17; 8:45 am]

BILLING CODE 4910-9X-P